DEPARTMENT OF VETERANS AFFAIRS

Gulf War Veterans' Illnesses and Deployment Health Scientific Merit Review Board; Notice of Establishment

As required by section 9(a)(2) of Public Law 92-463 (Federal Advisory Committee Act), the Department of Veterans Affairs (VA) hereby gives notice of the establishment of the Gulf War Veterans' Illnesses and Deployment Health Scientific Merit Review Board. The Secretary of Veterans Affairs has determined that establishing the Board is both necessary and in the public interest.

The Board is expected to make recommendations that will improve the quality of VA research pertaining to the health consequences of participation in the Gulf War (Operations Desert Shield/Desert Storm, August 1990-July 1991) and other military deployments. Focused advice from subject matter experts on the Board will enhance the Department's efforts to restore the capabilities of veterans with deployment-related disabilities and to improve the quality of their lives by promoting their functional independence.

The Board will advise VA's Office of Research and Development (ORD) leadership on the scientific merit, technical merit, and mission relevance of research pertaining to the health effects of participation in the Gulf War and other military deployments before and since that conflict. The Board will: (1) Review Gulf War veterans' illnesses and deployment health research and development proposals administered locally by VA facilities for scientific and technical merit; (2) prepare summary recommendations to ORD leadership on all proposals based upon independent review, Board discussions, and site visits, where necessary; and (3) advise ORD leadership regarding the status of Gulf War veterans' illnesses and deployment health research and development as applicable to the Board members' areas of expertise.

Dated: June 17, 2004.
By Direction of the Secretary.
E. Philip Riggin,
Committee Management Officer.

[FR Doc. 04-14277 Filed 6-23-04; 8:45 am]

BILLING CODE 8320-01-M